DEPARTMENT OF ENERGY

Federal Energy Regulatory Commission

[Docket No. RP01-225-000]

Gulf South Pipeline Company, LP; Notice of Proposed Changes to FERC Gas Tariff

February 6, 2001.

Take notice that on February 1, 2001, Gulf South Pipeline Company, LP (Gulf South) tendered for filing as part of its FERC Gas Tariff, Sixth Revised Volume No. 1, the following tariff sheets, to become effective March 1, 2001:

First Revised Sheet No. 100

First Revised Sheet No. 300

First Revised Sheet No. 400

First Revised Sheet No. 500

First Revised Sheet No. 603

First Revised Sheet No. 1104

First Revised Sheet No. 1105

Original Sheet No. 1416

Sheet Nos. 1417-1499 Reserved

Original Sheet No. 2902

Original Sheet No. 2903

Original Sheet No. 2904

Original Sheet No. 2905

In Docket No. EC00-106-000 the Commission issued an order on November 24, 2000, 93 FERC ¶ 61,219 (2000), authorizing Entergy Power Marketing Corp. and Koch Energy Trading, Inc., to consolidate their jurisdictional facilities and form a new power market company. That company, in turn, would be a wholly-owned, indirect subsidiary of a newly formed limited partnership between Entergy Corporation and Koch Energy, Inc. (Koch Energy), called Entergy-Koch, LP. In addition, Koch Energy contributed its ownership interest in Gulf South (formerly, Koch Gateway Pipeline Company). In that proceeding, the Commission accepted Gulf South's commitment to formalize its current open tap policy and to establish an open season process on its system to assure that rival generators will have access to services and capacity on future system expansions.

Gulf South states that this tariff filing complies with the requirements of the Commission's November 24, 2000 order, as the limited partnership was formed on January 31, 2001.

Gulf South copies of this filing have been served upon Gulf South's customers, state commissions and other interested parties.

Any person desiring to be heard or to protest said filing should file a motion to intervene or a protest with the Federal Energy Regulatory Commission, 888 First Street, NE, Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-3434 Filed 2-9-01; 8:45 am]

BILLING CODE 6717-01-M